INTERNATIONAL TRADE COMMISSION

[USITC SE-14-007]

Government in the Sunshine Act Meeting Notice

AGENCY HOLDING THE MEETING: United States International Trade Commission

TIME AND DATE: March 14, 2014 at 11:00 a.m.

PLACE: Room 101, 500 E Street SW., Washington, DC 20436, Telephone: (202) 205-2000

STATUS: Open to the public

MATTERS TO BE CONSIDERED:

1. Agendas for future meetings: none

2. Minutes

3. Ratification List

4. Vote in Inv. Nos. 701-TA-512 and 731-TA-1248 (Preliminary) (Carbon and Certain Alloy Steel Wire Rod from China). The Commission is currently scheduled to complete and file its determinations on March 17, 2014; the Commission is currently scheduled to complete and file the views of the Commission on March 24, 2014.

5. Outstanding action jackets: none

In accordance with Commission policy, subject matter listed above, not disposed of at the scheduled meeting, may be carried over to the agenda of the following meeting.

Issued: March 6, 2014.
By order of the Commission:
William R. Bishop,
Supervisory Hearings and Information Officer.

[FR Doc. 2014-05322 Filed 3-7-14; 11:15 am]

BILLING CODE 7020-02-P